DEPARTMENT OF STATE

[Public Notice: 8188]

60-Day Notice of Proposed Information Collection: Directorate of Defense Trade Controls Information Collection: Export Declaration of Defense Technical Data or Services

ACTION: Notice of request for public comments.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to 60 days from February 20, 2013.

ADDRESSES: Comments and questions should be directed to Nicholas Memos, Office of Defense Trade Controls Policy, Department of State, who may be reached via the following methods:

• Internet: Persons with access to the Internet may view and comment on this notice by going to the Federal regulations Web site at www.regulations.gov. You can search for the document by selecting “Notice” under Document Type, entering the Public Notice number as the “Keyword or ID,” checking the “Open for Comment” box, and then clicking “Search.” If necessary, use the “Narrow by Agency” option on the Results page.

• Email: memosni@state.gov.

• Mail: Nicholas Memos, SA-1, 12th Floor, Directorate of Defense Trade Controls, Bureau of Political-Military Affairs, U.S. Department of State, Washington, DC 20522-0112.

You must include the DS form number, information collection title, and the OMB control number in any correspondence.

FOR FURTHER INFORMATION CONTACT: Direct requests for additional information regarding the collections listed in this notice, including requests for copies of the proposed collection instrument and supporting documents, to Nicholas Memos, PM/DDTC, SA-1, 12th Floor, Directorate of Defense Trade Controls, Bureau of Political-Military Affairs, U.S. Department of State, Washington, DC 20522-0112, who may be reached via phone at (202) 663-2829, or via email at memosni@state.gov.

SUPPLEMENTARY INFORMATION: • Title of Information Collection: Export Declaration of Defense Technical Data or Services.

• OMB Control Number: 1405-0157.

• Type of Request: Extension of Currently Approved Collection.

• Originating Office: Bureau of Political-Military Affairs, Directorate of Defense Trade Controls, PM/DDTC.

• Form Number: DS-4071.

• Respondents: Business and Nonprofit Organizations.

• Estimated Number of Respondents: 12,000.

• Estimated Number of Responses: 18,000.

• Average Hours per Response: 30 minutes.

• Total Estimated Burden: 9,000 hours.

• Frequency: On Occasion.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: Actual export of defense technical data and defense services must be reported directly to the Directorate of Defense Trade Controls (DDTC). DDTC administers the International Traffic in Arms Regulations (ITAR) and Section 38 of the Arms Export Control Act (AECA). The actual exports must be in accordance with requirements of the ITAR and Section 38 of the AECA. DDTC monitors the information to ensure there is proper control of the transfer of sensitive U.S. technology.

Methodology: This information collection may be sent to the Directorate of Defense Trade Controls via the following methods: electronically or mail.

Dated: February 5, 2013.
Kevin Maloney,
Acting Managing Director of Defense Trade Controls, Bureau of Political-Military Affairs, U.S. Department of State.

[FR Doc. 2013-03872 Filed 2-19-13; 8:45 am]

BILLING CODE 4710-25-P